DEPARTMENT OF COMMERCE

National Oceanic and Atmospheric Administration

[RTID 0648-XC949]

North Pacific Fishery Management Council; Public Meeting

AGENCY: National Marine Fisheries Service (NMFS), National Oceanic and Atmospheric Administration (NOAA), Commerce.

ACTION: Notice of hybrid meeting.

SUMMARY: The North Pacific Fishery Management Council's (Council) Crab Plan Team will meet May 16, 2023 through May 18, 2023.

DATES: The meeting will be held on Tuesday, May 16, 2023 to Thursday May 18, 2023, 2023, from 9 a.m. to 4:30 p.m. Alaska time.

ADDRESSES: The meeting will be a hybrid meeting. Attend in person at the Alaska Regional Office in Juneau, AK at 709 W 9th St., Juneau, AK 99802-1668 or join online through the link at https://meetings.npfmc.org/Meeting/Details/2990. Instructions for attending the meeting via video conference are given under SUPPLEMENTARY INFORMATION, below.

FOR FURTHER INFORMATION CONTACT: Sarah Rheinsmith, Council staff; phone: (907) 271-2809; email: sarah.rheinsmith@noaa.gov. For technical support, please contact our admin Council staff, email: npfmc.admin@noaa.gov.

SUPPLEMENTARY INFORMATION:

Agenda

Tuesday May 16, 2023 Through Thursday, May 18, 2023

The agenda will include: (a) the simpler modeling working group report; (b) WAIRKC final SAFE; (c) PIGKC final SAFE; (d) AIGKC final SAFE; (e) PIBKC proposed models; (f) BBRKC proposed model runs; (g) Snow crab proposed model runs; (h) Tanner crab proposed models; (i) Bering sea red crab stock structure template; (j) unobserved mortality ongoing research discussion; (k) BSFRF update; and (m) additional topics. The agenda is subject to change, and the latest version will be posted at https://meetings.npfmc.org/Meeting/Details/2990 prior to the meeting, along with meeting materials.

Connection Information

You can attend the meeting online using a computer, tablet, or smart phone, or by phone only. Connection information will be posted online at: https://meetings.npfmc.org/Meeting/Details/2990.

Public Comment

Public comment letters will be accepted and should be submitted electronically to https://meetings.npfmc.org/Meeting/Details/2990.

Authority: 16 U.S.C. 1801 et seq.

Dated: April 17, 2023.
Rey Israel Marquez,
Acting Deputy Director, Office of Sustainable Fisheries, National Marine Fisheries Service.

[FR Doc. 2023-08377 Filed 4-19-23; 8:45 am]

BILLING CODE 3510-22-P